DEPARTMENT OF DEFENSE

Department of the Army

Availability for Non-Exclusive, Exclusive, or Partially Exclusive Licensing of U.S. Provisional Patent Application Concerning Synthetic Stereoisomers of Hyperzine A for Protection Against Chemical Warfare Agents (CWA), CWA-Induced Seizures, and Other Neurological Seizures

AGENCY: Department of the Army, DoD.

ACTION: Notice.

SUMMARY: Announcement is made of the availability for licensing of the invention set forth in U.S. Provisional Patent Application Serial No. 61/104,388 entitled “Synthetic Stereoisomers of Hyperzine A for Protection Against Chemical Warfare Agents (CWA), CWA-Induced Seizures, and other Neurological Seizures,” filed October 10, 2008. The United States Government, as represented by the Secretary of the Army, has rights in this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: The invention comprises pre and/or post exposure treatment of a patient with [+]-Huperzine A for chemical warfare nerve agent or organophosphate induced seizure/status epilepticus and neuropathology.

Brenda S. Bowen,
Army Federal Register Liaison Officer.

[FR Doc. E8-26719 Filed 11-7-08; 8:45 am]

BILLING CODE 3710-08-P